DEPARTMENT OF TRANSPORTATION

Federal Aviation Administration

Agency Information Collection Activities: Requests for Comments; Clearance of a New Approval of Information Collection: Alternative Pilot Physical Examination and Education Requirements

AGENCY: Federal Aviation Administration (FAA), DOT.

ACTION: Notice and request for comments.

SUMMARY: In accordance with the Paperwork Reduction Act of 1995, FAA invites public comments about our intention to request the Office of Management and Budget (OMB) approval of a new information collection. The information collected is used to verify that pilots in command meet the requirements of section 2307 of Public Law 114-190. The new information collection is in response to implementation of section 2307, medical certification of certain small aircraft pilots, of Public Law 114-190, the Federal Aviation Administration (FAA) Extension, Safety, and Security Act of 2016 (FESSA). Section 2307 of FESSA established a new voluntary program of physical examination and education requirements for certain pilots in command in lieu of those pilots holding a medical certificate.

DATES: Written comments should be submitted by February 27, 2017.

ADDRESSES: Send comments to the FAA at the following address: Ronda Thompson, Room 441, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION: OMB Control Number: Not assigned.

Title: Alternative Pilot Physical Examination and Education Requirements.

Form Numbers: FAA form 8700-2 and 8700-3.

Type of Review: New information collection.

Background: The Federal Aviation Administration (FAA) Extension, Safety, and Security Act of 2016 (Pub. L. 114-190) (FESSA) was enacted on July 15, 2016. Section 2307 of FESSSA, medical certification of certain small aircraft pilots, directed the FAA to “issue or revise regulations to ensure that an individual may operate as pilot in command of a covered aircraft” if the pilot and aircraft meet certain prescribed conditions as outlined in FESSA. The FAA notes that the use of section 2307 by any eligible pilot is voluntary. Persons may elect to use these alternative pilot physical examination and education requirements or may continue to operate using any FAA medical certificate.

The FAA is publishing a final rule, Alternative Pilot Physical Examination and Education Requirements, to implement the provisions of section 2307 (RIN 2120-AK96).

Respondents: Approximately 453,993 individuals.

Frequency: Information is collected on occasion.

Estimated Average Burden per Response: 21 minutes.

Estimated Total Annual Burden: 159,000 hours.

Issued in Washington, DC, on December 19, 2016.
Ronda L. Thompson,
FAA Information Collection Clearance Officer, Performance, Policy, and Records Management Branch, ASP-110.

[FR Doc. 2016-31234 Filed 12-23-16; 8:45 am]

BILLING CODE 4910-13-P